OFFICE OF THE UNITED STATES TRADE REPRESENTATIVE

Notice of Meeting of the Committee of Chairs of the Industry Sector and Functional Advisory Committees

AGENCY: Office of the United States Trade Administrative

ACTION: Notice of Meeting.

SUMMARY: The Committee of Chairs of the Industry Sector and Functional Advisory Committees will hold a meeting on November 28, 2000, from 2:00 p.m. to 4:00 p.m. The meeting will be closed to the public from 2:00 p.m. to 3:15 p.m., and opened to the public from 3:15 p.m. to 4:00 p.m. to discuss the review of the Trade Advisory Committee System.

DATES: The meeting is scheduled for November 28, 2000, unless otherwise notified.

ADDRESSES: The meeting will be held at the Office of the U.S. Trade Representative, Conference Room 1, located at 1724 F Street, N.W., Washington, D.C., unless otherwise notified.

FOR FURTHER INFORMATION CONTACT: Sylvia Prosak, (202) 482-3268, Department of Commerce, 14th St. and Constitution Ave., N.W., Washington, D.C. 20230, or Dominic Bianchi, Office of the United States Trade Representative, 1724 F. St. N.W., Washington, D.C. 20508, (202) 395-6120.

SUPPLEMENTARY INFORMATION: During the opened portion of the meeting the Committee of Chairs will present their report on recommendations for reform of the Trade Advisory System.

Dominic Bianchi,
Acting Assistant United States Trade Representative for Intergovernmental Affairs and Public Liaison.

[FR Doc. 00-28518 Filed 11-6-00; 8:45 am]

BILLING CODE 3190-01-M